ENVIRONMENTAL PROTECTION AGENCY

[FRL-9141-4]

Proposed CERCLA Administrative Cost Recovery Settlement Agreement; AVX Corporation

AGENCY: Environmental Protection Agency (EPA).

ACTION: Notice of proposed settlement agreement; request for public comment.

SUMMARY: In accordance with section 122(i) the Comprehensive Environmental Response, Compensation, and Liability Act, as amended (“CERCLA”), 42 U.S.C. 9622(i), notice is hereby given of a proposed administrative settlement for recovery of projected future response oversight costs and performance of work concerning the Aerovox Site located at 740 Belleville Avenue in New Bedford, Bristol County, Massachusetts with AVX Corporation. The settlement provides for the performance of a portion of a non-time critical removal action, pre-payment of future response oversight costs, payment for long-term care of the Site and implementation of deed restrictions at the Site. The settlement also compromises the claim for past costs. In addition, the settlement includes a covenant not to sue the settling party pursuant to section 107(a) of CERCLA, 42 U.S.C. 9607(a) conditioned upon the satisfactory performance of its obligations under this settlement agreement. For thirty (30) days following the date of publication of this notice, the Agency will receive written comments relating to the settlement agreement. The Agency will consider all comments received and may modify or withdraw its consent to the settlement if comments received disclose facts or considerations which indicate that the settlement is inappropriate, improper, or inadequate. The Agency's response to any comments received will be available for public inspection at 5 Post Office Square, Suite 100, Boston, MA 02109.

DATES: Comments must be submitted on or before May 24, 2010.

ADDRESSES: The proposed settlement and an electronic copy of the attachments is available for public inspection at EPA New England OSRR Records and Information Center, 5 Post Office Square, Suite 100, Mailcode LIB01-2, Boston, MA 02109-3912, by appointment, (617) 918-1440. Comments should be addressed to the Regional Hearing Clerk, U.S. Environmental Protection Agency, Region I, 5 Post Office Square, Suite 100, Mailcode ORA18-1, Boston, MA 02109-3912 and should refer to: In re: Aerovox, U.S. EPA Region 1 Docket No. CERCLA-01-2010-0017.

FOR FURTHER INFORMATION CONTACT: A copy of the proposed settlement agreement can also be obtained from Ann Gardner, U.S. Environmental Protection Agency, Region I, 5 Post Office Square, Suite 100, Mailcode OES04-4, Boston, MA 02109-3912. Additional information on the Aerovox site and the Administrative Record for this site can be found at http://www.epa.gov/ne/superfund/sites/aerovox/.

Dated: April 15, 2010.
James T. Owens, III,
Director, Office of Site Remediation and Restoration, U.S. EPA, Region I.

[FR Doc. 2010-9459 Filed 4-22-10; 8:45 am]

BILLING CODE 6560-50-P